DEPARTMENT OF HOMELAND SECURITY

Federal Emergency Management Agency

44 CFR Part 67

[Docket No. FEMA-B-7749]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 5, 2008.

ADDRESSES: The corresponding preliminary Flood Insurance Rate Map (FIRM) for the proposed BFEs for each community are available for inspection at the community's map repository. The respective addresses are listed in the table below.

You may submit comments, identified by Docket No. FEMA-B-7749, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or. (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
City of Troy, Michigan
Michigan | City of Troy | Hawthorn Drain | Downstream side of Dequindre Road | +630 | +629
|  |  | Approximately 750 feet upstream of Minnesota Road | +634 | +635
Michigan | City of Troy | Shanahan Drain (West of Henry Graham Drain) | Inlet to Henry Graham Drain | +642 | +639
|  |  | Downstream side of John R Road | +645 | +644
| City of Troy | Spencer-Barnard Drain (East) | Downstream side of Dequindre Road | +631 | +630
|  |  | Upstream side of Minnesota Road | +633 | +632
| City of Troy | Spencer-Barnard Drain (West) | Upstream side of John R Road | +638 | +639
|  |  | Approximately 1,800 feet upstream of Maple Road | +663 | +662
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Troy
Maps are available for inspection at 500 West Big Beaver Road, Troy, MI 48084.
City of Sturgis, South Dakota
South Dakota | City of Sturgis | Bear Butte Creek | At eastern corporate limits | None | *3339
|  |  | Approximately 3,400 feet upstream of DM&E railroad | None | *3566
| City of Sturgis | Cook Canyon | Just downstream of DM&E railroad | *3448 | *3446
|  |  | Just downstream of Interstate 90 | *3476 | *3480
| City of Sturgis | Deadman Gulch | Approximately 200 feet downstream of Interstate 90 | None | *3528
|  |  | At Elk Road | None | *3600
| City of Sturgis | Dolan Creek | At confluence with Bear Butte Creek | *3374 | *3378
|  |  | Approximately 200 feet upstream of Dolan Creek Road | None | *3570
| City of Sturgis | East Vanocker Creek | At confluence with Vanocker Creek, downstream of Otter Road | None | *3529
|  |  | Just downstream of DM&E railroad | None | *3554
| City of Sturgis | South Dolan Creek | At confluence with Dolan Creek just upstream of Interstate 90 | None | *3503
|  |  | At southern corporate limits | None | *3570
| City of Sturgis | Vanocker Creek | At confluence with Vanocker Creek | *3456 | *3458
|  |  | At Vanocker Road | None | *3595
| City of Sturgis | West Vanocker Creek | At confluence with Vanocker Creek, just upstream of DM&E railroad | None | *3540
|  |  | Just downstream of Pineview Drive | None | *3590
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Sturgis
Maps are available for inspection at 1040 Second Street, Suite 102, Sturgis, SD 57785.

Flooding source(s) | Location of referenced elevation ** | * Elevation in feet (NGVD) + Elevation in feet (NAVD) # Depth in feet above ground: Effective | * Elevation in feet (NGVD) + Elevation in feet (NAVD) # Depth in feet above ground: Modified | Communities affected
Putnam County, Georgia, and Incorporated Areas
Rooty Creek | Approximately 60 feet upstream of Oconee Springs Road | None | +452 | City of Eatonton.
| Approximately 2,380 feet upstream of Sparta Highway/State Highway 16/State Highway 44 | None | +479
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Eatonton
Maps are available for inspection at 201 North Jefferson Avenue, Eatonton, GA 31204.
Barry County, Michigan, and Incorporated Areas
Bristol Lake | Entire shoreline of Bristol Lake | None | +910 | Township of Johnstown.
Gull Lake | Entire shoreline of Gull Lake | None | +882 | Township of Barry, Township of Prairieville.
Gun Lake | Entire shoreline of Gun Lake | None | +746 | Township of Orangeville, Township of Yankee Springs.
Hathaway Lake | Entire shoreline of Hathaway Lake | None | +791 | Township of Rutland.
Lake North Ridge | Entire shoreline of Lake North Ridge | None | +870 | City of Hastings.
Mud Creek | Confluence with Thornapple Lake | None | +803 | Township of Castleton, Township of Woodland.
| Downstream side of Saddlebag Lake Road | None | +823
Thornapple River | Approximately 0.5 mile upstream of Thornapple Lake Road | +804 | +805 | Township of Castleton, Village of Nashville.
| Approximately 1 mile upstream of N Main Street | +817 | +814
| Approximately 3 miles upstream of N Broadway Street | None | +771 | Township of Hastings, Township of Rutland.
| Approximately 1.2 mile downstream of N Broadway Street | None | +773
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Hastings
Maps are available for inspection at 102 S Broadway Street, Hastings, MI.
Township of Assyria
Maps are available for inspection at 8094 Tasker, Bellevue, MI.
Township of Baltimore
Maps are available for inspection at 3100 E. Dowling Road, Hastings, MI.
Township of Barry
Maps are available for inspection at 155 E. Orchard Street, Delton, MI.
Township of Carlton
Maps are available for inspection at 85 Welcome Road, Hastings, MI.
Township of Castleton
Maps are available for inspection at 915 Reed Street, Nashville, MI.
Township of Hastings
Maps are available for inspection at 885 River Road, Hastings, MI.
Township of Hope
Maps are available for inspection at 5463 S. M-43 Highway, Hastings, MI.
Township of Irving
Maps are available for inspection at 3425 Wing Road, Hastings, MI.
Township of Johnstown
Maps are available for inspection at 13641 South M-37 Highway, Battle Creek, MI.
Township of Maple Grove
Maps are available for inspection at 721 Durkee, Nashville, MI.
Township of Orangeville
Maps are available for inspection at 7350 Lindsey Road, Plainwell, MI.
Township of Prairieville
Maps are available for inspection at 10115 S. Norris Road, Delton, MI.
Township of Rutland
Maps are available for inspection at 2461 Heath Road, Hastings, MI.
Township of Thornapple
Maps are available for inspection at 200 E Main Street, Middleville, MI.
Township of Woodland
Maps are available for inspection at 156 S. Main Street, Woodland, MI.
Township of Yankee Springs
Maps are available for inspection at 284 N. Briggs Road, Middleville, MI.
Village of Freeport
Maps are available for inspection at 200 S. State Street, Freeport, MI.
Village of Middleville
Maps are available for inspection at 100 E. Main Street, Middleville, MI.
Village of Nashville
Maps are available for inspection at 206 N. Main Street, Nashville, MI.
Village of Woodland
Maps are available for inspection at 171 N. Main Street, Woodland, MI.
Kalamazoo County, Michigan, and Incorporated Areas
Flowerfield Creek | Approximately 0.6 mile downstream of West YZ Avenue | None | +843 | Township of Prairie Ronde.
| Approximately 25 feet upstream of 22nd Street | None | +890
East Tributary | Confluence of Flowerfield Creek | None | +858 | Township of Prairie Ronde.
| Approximately 100 feet upstream of West W Avenue | None | +878
West Tributary | Confluence of Flowerfield Creek | None | +873 | Township of Prairie Ronde.
| Approximately 100 feet upstream of West W Avenue | None | +886
Gourdneck Lake | Entire shoreline of Gourdneck Lake | None | +853 | Township of Schoolcraft.
Grass Lake | Entire shoreline of Grass Lake | None | +879 | Township of Richland.
Gull Lake | Entire shoreline of Gull Lake | None | +882 | Township of Richland, Township of Ross.
Kalamazoo River | Approximately 75 feet upstream side of S 35th Street | None | +779 | City of Galesburg.
| Approximately 150 feet upstream of Climax Drive | None | +786
| Approximately 600 feet east of the intersection of W G Avenue and N Pitcher Street at the City of Parchment/Charter Township of Cooper corporate limits | None | +755 | City of Parchment.
| Approximately 25 feet downstream of E Mosel Avenue | None | +759 |
Little Sugarloaf Lake. | Entire shoreline of Little Sugarloaf Lake | None | +860 | Township of Schoolcraft.
| Entire shoreline of Little Sugarloaf Lake | +861 | +860 | City of Portage.
Spring Creek | Approximately 0.9 mile downstream of S 15th Street | None | +834 | Township of Schoolcraft.
| Approximately 400 feet upstream of S 14th Street | None | +855
Sugarloaf (Lower) Lake | Entire shoreline of Sugarloaf (Lower) Lake | None | +859 | Township of Schoolcraft.
Sugarloaf (Upper) Lake | Entire shoreline of Sugarloaf (Upper) Lake | None | +861 | Township of Schoolcraft.
Weeds Lake | Entire shoreline of Weeds Lake | None | +882 | Charter Township of Texas.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Charter Township of Oshtemo
Maps are available for inspection at 7275 W Main Street, Kalamazoo, MI.
Charter Township of Texas
Maps are available for inspection at 7110 W. Q Avenue, Kalamazoo, MI.
City of Galesburg
Maps are available for inspection at 200 E Michigan Avenue, Galesburg, MI.
City of Kalamazoo
Maps are available for inspection at 241 W South Street, Kalamazoo, MI.
City of Parchment
Maps are available for inspection at 650 South Riverview Drive, Parchment, MI.
City of Portage
Maps are available for inspection at 7900 S. Westnedge Avenue, Portage, MI.
Township of Alamo
Maps are available for inspection at 7901 N. 6th Street, Kalamazoo, MI.
Township of Brady
Maps are available for inspection at 13123 South 24th Street, Vicksburg, MI.
Township of Charleston
Maps are available for inspection at 1499 South 38th Street, Galesburg, MI.
Township of Climax
Maps are available for inspection at 151 South Main, Climax, MI.
Township of Comstock
Maps are available for inspection at 6138 King Highway, Comstock, MI.
Township of Cooper
Maps are available for inspection at 1590 W D Avenue, Kalamazoo, MI.
Township of Kalamazoo
Maps are available for inspection at 1720 Riverview Drive, Kalamazoo, MI.
Township of Pavilion
Maps are available for inspection at 7510 Q Avenue E, Scotts, MI.
Township of Prairie Ronde
Maps are available for inspection at 8140 West W Avenue, Schoolcraft, MI.
Township of Richland
Maps are available for inspection at 7401 N 32nd Street, Richland, MI.
Township of Ross
Maps are available for inspection at 12086 E M-89, Richland, MI.
Township of Schoolcraft
Maps are available for inspection at 50 E. VW Avenue, Vicksburg, MI.
Township of Wakeshma
Maps are available for inspection at 13988 South 42nd St, Fulton, MI.
Village of Augusta
Maps are available for inspection at 109 W Clinton Street, Augusta, MI.
Village of Climax
Maps are available for inspection at 114 East Maple Street, Climax, MI.
Village of Richland
Maps are available for inspection at 8100 North 32nd Street, Richland, MI.
Village of Schoolcraft
Maps are available for inspection at 154 W. Eliza Street, Schoolcraft, MI.
Village of Vicksburg
Maps are available for inspection at 126 N Kalamazoo Avenue, Vicksburg, MI.
Bertie County, North Carolina, and Incorporated Areas
Barbeque Swamp | Approximately 0.8 mile downstream of the Bertie/Hertford County boundary | None | +13 | Unincorporated Areas of Bertie County.
| Approximately 1.2 miles upstream of Meadow Road (State Road 1312) | None | +50
Beaverdam Swamp | At the confluence with Loosing Swamp | None | +32 | Unincorporated Areas of Bertie County.
| Approximately 2.5 miles upstream of the confluence with Loosing Swamp | None | +41
Black Walnut Swamp | Approximately 3.1 miles upstream of the confluence with Albemarle Sound | None | +6 | Unincorporated Areas of Bertie County.
| Approximately 4.4 miles upstream of the confluence with Albemarle Sound | None | +18
Chinkapin Swamp | At the Bertie/Herftford County boundary | None | +14 | Unincorporated Areas of Bertie County, Town of Colerain.
| Approximately 2.2 miles upstream of NC 42 Highway | None | +48
Cricket Swamp | Approximately 100 feet upstream of NC 45 | None | +12 | Unincorporated Areas of Bertie County.
| Approximately 0.8 mile upstream of Holley Road (State Road 1387) | None | +50
Cypress Swamp | At the confluence with Chinkapin Swamp | None | +21 | Unincorporated Areas of Bertie County.
| Approximately 0.7 mile upstream of Nowell Farm Road (State Road 1314) | None | +49
Eason Swamp | At the confluence with Loosing Swamp and Wildcat Swamp | None | +37 | Unincorporated Areas of Bertie County.
| Approximately 1.3 miles upstream of Sheriff Garrett Road (State Road 1246) | None | +47
Eastmost Swamp | Approximately 10 feet upstream of Nixon Road (State Road 1354) | None | +43 | Unincorporated Areas of Bertie County.
| Approximately 1,950 feet upstream of Perrytown Road (State Road 1344) | None | +58
Tributary 1 | Approximately 20 feet upstream of Farless Road (State Road 1355) | None | +35 | Unincorporated Areas of Bertie County.
| Approximately 0.9 mile upstream of Farless Road | None | +38
Tributary 2 | Approximately 20 feet upstream of NC 45 | None | +41 | Unincorporated Areas of Bertie County.
| Approximately 0.7 mile upstream of the confluence of Eastmost Swamp Tributary 2A | None | +48
Tributary 2A | At the confluence with Eastmost Swamp Tributary 2 | None | +41 | Unincorporated Areas of Bertie County.
| Approximately 170 feet downstream of Blackrock Road (State Road 1358) | None | +51
Fort Branch | At the Town of Aulander Extraterritorial Jurisdiction/Hertford County boundary | None | +55 | Unincorporated Areas of Bertie County, Town of Aulander.
| Approximately 1,430 feet upstream of East Elm Street | None | +64
Tributary 1 | At the confluence with Fort Branch | None | +60 | Town of Aulander.
| Approximately 0.5 mile upstream of North Commerce Street | None | +71
Tributary 2 | At the confluence with Fort Branch | None | +61 | Town of Aulander.
| Approximately 1,030 feet upstream of Bell Street | None | +69
Loosing Swamp | At the confluence with Quidccoson Swamp | None | +27 | Unincorporated Areas of Bertie County.
| At the confluence of Eason Swamp and Wildcat Swamp | None | +37
Tributary 1 | At the confluence with Loosing Swamp | None | +28 | Unincorporated Areas of Bertie County.
| Approximately 1.2 miles upstream of the confluence with Loosing Swamp | None | +41
Quidccoson Swamp | At the confluence with Loosing Swamp | None | +27 | Unincorporated Areas of Bertie County.
| Approximately 0.4 mile upstream of Cremo Road (State Road 1313) | None | +52
Swamp Tributary 1 | At the confluence with Quidccoson Swamp | None | +27 | Unincorporated Areas of Bertie County.
| Approximately 0.5 mile upstream of the confluence with Quidccoson Swamp | None | +36
Swamp Tributary 2 | At the confluence with Quidccoson Swamp | None | +32 | Unincorporated Areas of Bertie County.
| Approximately 1.1 miles upstream of U.S. 13 Highway | None | +48
Swamp Tributary 3 | At the confluence with Quidccoson Swamp | None | +35 | Unincorporated Areas of Bertie County.
| Approximately 0.9 mile upstream of the confluence with Quidccoson Swamp | None | +49
Swamp Tributary 4 | At the confluence with Quidccoson Swamp | None | +44 | Unincorporated Areas of Bertie County.
| Approximately 0.5 mile upstream of the confluence with Quidccoson Swamp | None | +53
Stony Creek | Approximately 1,100 feet downstream of the Bertie/Hertford County boundary | None | +25 | Unincorporated Areas of Bertie County.
| The confluence of Loosing Swamp | None | +27
Unnamed Tributary #1 | Approximately 10 feet upstream of NC 17 | None | +21 | Unincorporated Areas of Bertie County.
| Approximately 0.7 mile upstream of U.S. 17 Highway N | None | +23
Wildcat Swamp | At the confluence with Loosing Swamp and Eason Swamp | None | +37 | Unincorporated Areas of Bertie County.
| Approximately 1,240 feet upstream of the confluence of Wildcat Swamp Tributary 2 | None | +39
Tributary 1 | At the confluence with Wildcat Swamp | None | +37 | Unincorporated Areas of Bertie County.
| Approximately 1.0 mile upstream of the confluence with Wildcat Swamp | None | +44
Tributary 2 | At the confluence with Wildcat Swamp | None | +39 | Unincorporated Areas of Bertie County.
| Approximately 0.8 mile upstream of the confluence with Wildcat Swamp | None | +42
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Bertie County
Maps are available for inspection at Bertie County Building Inspections Department, 106 Dundee Street, Windsor, NC.
Town of Aulander
Maps are available for inspection at Town of Aulander Municipal Building, 124 West Main Street, Aulander, NC.
Town of Colerain
Maps are available for inspection at Colerain Town Hall, 101 B. Winton Road, Colerain, NC.
Caldwell County, North Carolina, and Incorporated Areas
Little Gunpowder Creek (near Town of Hudson) | At confluence with Gunpowder Creek | None | +1046 | Unincorporated Areas of Caldwell County, Town of Cajahs Mountain, Town of Granite Falls, Town of Hudson, Town of Sawmills.
| Approximately 1.4 miles upstream of Little Gunpowder Creek Drive | None | +1261
Zacks Fork Creek | At the confluence with Lower Creek | +1092 | +1088 | Unincorporated Areas of Caldwell County, City of Lenoir.
| Approximately 800 feet downstream of Northeast Georgetown Road | +1140 | +1139
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lenoir
Maps are available for inspection at Lenoir City Hall, 801 West Avenue Northwest, 3rd Floor, Lenoir, NC.
Town of Cajahs Mountain
Maps are available for inspection at Cajahs Mountain Town Hall, 1800 Connelly Springs Road, Lenoir, NC.
Town of Granite Falls
Maps are available for inspection at Granite Falls Town Hall, 30 Park Square, Granite Falls, NC.
Town of Hudson
Maps are available for inspection at Hudson Town Hall, 550 Central Street, Hudson, NC.
Town of Sawmills
Maps are available for inspection at Sawmills Town Hall, 4076 U.S. Highway 321A, Sawmills, NC.
Unincorporated Areas of Caldwell County
Maps are available for inspection at Caldwell County Courthouse, 1051 Harper Avenue, Lenoir, NC.
Forsyth County, North Carolina, and Incorporated Areas
Abbotts Creek | Approximately 600 feet downstream of Shields Road | +885 | +886 | Town of Kernersville.
| Approximately 40 feet downstream of Lindsay Street | None | +921
Tributary 2 | Approximately 350 feet upstream of the confluence with Abbotts Creek | None | +866 | Unincorporated Areas of Forsyth County, Town of Kernersville.
| Approximately 0.4 mile upstream of I-40 Highway | None | +886
Tributary 2A | At the confluence with Abbotts Creek Tributary 2 | None | +866 | Town of Kernersville.
| Approximately 1,250 feet upstream of the confluence with Abbotts Creek Tributary 2 | None | +888
Bashavia Creek | At the confluence with Yadkin River | None | +733 | Unincorporated Areas of Forsyth County, Town of Lewisville.
| Approximately 580 feet upstream of Balsom Road (State Road 1455) | None | +829
Beaver Dam Creek | Approximately 250 feet upstream of the confluence with Muddy Creek | +819 | +820 | Village of Tobaccoville.
| Approximately 100 feet downstream of Shore Road (State Road 1632) | None | +822
Tributary | At the confluence with Beaver Dam Creek | None | +821 | Village of Tobaccoville.
| Approximately 800 feet upstream of the confluence with Beaver Dam Creek | None | +826
Berry Branch | Approximately 0.4 mile upstream of Peachtree Street | None | +781 | City of Winston-Salem.
| Approximately 0.5 mile upstream of Peachtree Street | None | +784
Bethabara Branch | Approximately 0.7 mile upstream of Bethabara Road | None | +818 | City of Winston-Salem.
| Approximately 300 feet downstream of Shattalon Drive (State Road 1686) | None | +822
Bill Branch | Approximately 80 feet upstream of the dam | None | +784 | Unincorporated Areas of Forsyth County.
| Approximately 0.5 mile upstream of the dam | None | +785
Blacks Creek | At the confluence with Double Creek | None | +708 | Unincorporated Areas of Forsyth County.
| Approximately 350 feet upstream of Concord Church Road (State Road 1171) | None | +716
Blanket Bottom Creek | At the confluence with Yadkin River | None | +701 | Unincorporated Areas of Forsyth County, Town of Lewisville, Village of Clemmons.
| Approximately 1,950 feet upstream of Kensford Drive | None | +883
Brushy Fork | At the Forsyth/Davidson County boundary | None | +850 | Unincorporated Areas of Forsyth County.
| Approximately 20 feet upstream of the Forsyth/Davidson County boundary | None | +850
Tributary | Approximately 1,200 feet upstream of the confluence with Brushy Fork Creek | None | +790 | City of Winston-Salem.
| Approximately 1,850 feet upstream of the confluence with Brushy Fork Creek | None | +796
Caudle Branch | At the confluence with Yadkin River | None | +714 | Unincorporated Areas of Forsyth County.
| Approximately 1,040 feet upstream of Hounds Ridge Road | None | +730
Cloverleaf Branch | Approximately 650 feet upstream of Stadium Drive | None | +791 | City of Winston-Salem.
| Approximately 210 feet upstream of U.S. Route 421 | None | +815
Crooked Run Creek Tributary | At the Forsyth/Stokes County boundary | None | +935 | Unincorporated Areas of Forsyth County, Village of Tobaccoville.
| Approximately 500 feet upstream of the confluence of Crooked Run Creek Tributary 2 of Tributary | None | +977
Tributary 2 | At the confluence with Crooked Run Creek Tributary | None | +970 | Unincorporated Areas of Forsyth County, Village of Tobaccoville.
| Approximately 1,200 feet upstream of the confluence with Crooked Run Creek Tributary | None | +986
Double Creek | At the confluence with Yadkin River | None | +708 | Unincorporated Areas of Forsyth County.
| Approximately 0.7 mile upstream of the confluence of Blacks Creek | None | +708
Ellison Creek | At the confluence with Yadkin River | None | +705 | Unincorporated Areas of Forsyth County, Town of Lewisville.
| Approximately 1.1 miles upstream of Styers Ferry Road (State Road 1166) | None | +720
Fries Branch | At the confluence with Fries Creek | +804 | +801 | Unincorporated Areas of Forsyth County.
| Approximately 140 feet upstream of Walker Road (State Road 1470) | +844 | +846
Fries Creek | At the confluence with Yadkin River | None | +739 | Unincorporated Areas of Forsyth County.
| Approximately 0.6 mile upstream of Waller Road (State Road 1470) | +819 | +822
Harmon Mill Creek | Approximately 50 feet downstream side of Masten Drive | None | +882 | Unincorporated Areas of Forsyth County, Town of Kernersville.
| Approximately 0.4 mile upstream of Masten Drive | None | +892
Hartley Creek | Approximately 350 feet upstream of the confluence with Belews Creek | None | +759 | Unincorporated Areas of Forsyth County.
| Approximately 1.9 mile upstream of the confluence with Belews Creek | None | +796
Hauser Creek | At the confluence with Ellison Creek | None | +705 | Unincorporated Areas of Forsyth County.
| Approximately 0.9 mile upstream of the confluence with Ellison Creek | None | +718
Johnson Creek | At the confluence with Yadkin River | +707 | +698 | Unincorporated Areas of Forsyth County, Village of Clemmons.
| Approximately 0.6 mile upstream of Middlebrook Drive | None | +768
Tributary | At the confluence with Johnson Creek | +707 | +698 | Unincorporated Areas of Forsyth County, Village of Clemmons.
| Approximately 300 feet upstream of Carriagebrook Court | None | +727
Tributary 2 | At the confluence with Johnson Creek | None | +708 | Village of Clemmons.
| Approximately 360 feet upstream of Doublegate Drive | None | +779
Kerners Mill Creek | Approximately 700 feet downstream of Southern Street | None | +929 | Town of Kernersville.
| Approximately 1,560 feet upstream of Southern Street | None | +954
Tributary | Approximately 1,000 feet upstream of the confluence with Kerners Mill Creek | None | +899 | Town of Kernersville.
| Approximately 390 feet upstream of Deere-Hitachi Road | None | +958
Lowery Mill Creek | Approximately 1,050 feet downstream of New Walkertown Road/U.S. Highway 311 | None | +894 | Unincorporated Areas of Forsyth County.
| Approximately 330 feet downstream of New Walkertown Road/U.S. Highway 311 | None | +901
Mary Reich Creek | At the Forsyth/Davidson County boundary | None | +811 | Unincorporated Areas of Forsyth County.
| Approximately 0.9 mile upstream of the Forsyth/Davidson County boundary | None | +835
Mill Creek No. 3 | Approximately 0.9 mile upstream of Bowens Road (State Road 1625) | None | +869 | Unincorporated Areas of Forsyth County, Village of Tobaccoville.
| Approximately 840 feet upstream of Tobaccoville Road | None | +999
Mill Creek Tributary | Approximately 830 feet upstream of East Hanes Mill Road | None | +824 | City of Winston-Salem.
| Approximately 1,190 feet upstream of East Hanes Mill Road | None | +830
Mill Creek West | At the confluence with Yadkin River | None | +730 | Unincorporated Areas of Forsyth County, Town of Lewisville.
| Approximately 0.4 mile upstream of Wyntfield Drive | None | +822
Muddy Creek | At the downstream side of Interstate 40 | +711 | +710 | Unincorporated Areas of Forsyth County, City of Winston-Salem, Village of Clemmons.
| Approximately 0.9 mile upstream of South Peace Haven Road (State Road 1140) | +717 | +718
Tributary | Approximately 200 feet upstream of Cedar Trails | None | +758 | City of Winston-Salem.
| Approximately 1,000 feet upstream of Cedar Trails | None | +778
Tributary 1A | Approximately 400 feet upstream of the confluence with Muddy Creek Tributary | +749 | +748 | City of Winston-Salem.
| Approximately 0.4 mile upstream of the confluence with Muddy Creek Tributary | None | +791
Old Richmond Creek | At the confluence with Yadkin River | None | +753 | Unincorporated Areas of Forsyth County.
| Approximately 2.7 miles upstream of Donnaha Road (State Road 1600) | None | +844
Panther Creek | At the confluence with Double Creek | None | +708 | Unincorporated Areas of Forsyth County.
| Approximately 0.8 mile upstream of Williams Road (State Road 1173) | None | +717
Tributary 1 | At the confluence with Panther Creek | None | +708 | Unincorporated Areas of Forsyth County.
| Approximately 0.6 mile upstream of the confluence with Panther Creek | None | +723
Parkway Branch | At the confluence with Salem Creek | +740 | +742 | City of Winston-Salem.
| Approximately 1,580 feet upstream of South Main Street | None | +826
Peters Creek | Approximately 1,260 feet upstream of the confluence of North School Branch | None | +836 | City of Winston-Salem.
| Approximately 1,550 feet upstream of the confluence of North School Branch | None | +837
Reedy Fork (Stream No. 51) | At the Forsyth/Guilford County boundary | None | +878 | Unincorporated Areas of Forsyth County, Town of Kernersville.
| Approximately 0.6 mile upstream of the Forsyth/Guilford County boundary | None | +892
Reynolds Creek | Approximately 1,500 feet upstream of Fairhaven Road | None | +781 | Town of Lewisville.
| Approximately 0.8 mile upstream of Fairhaven Road | None | +810
Salem Creek | Approximately 100 feet downstream of Ebert Road | +728 | +727 | Unincorporated Areas of Forsyth County, City of Winston-Salem.
| Approximately 250 feet upstream of Silas Creek Parkway/NC Highway 67 | +745 | +746
Silas Creek | Approximately 0.6 mile upstream of Old Town Club Drive | None | +889 | City of Winston-Salem.
| Approximately 90 feet downstream of University Parkway | None | +896
South Fork Muddy Creek | Approximately 350 feet downstream of High Point Road | None | +877 | Unincorporated Areas of Forsyth County, City of Winston-Salem.
| Approximately 0.8 mile upstream of Temple School Road (State Road 2685) | None | +935
Spurgeon Creek | At the Forsyth/Davidson County boundary | None | +819 | Unincorporated Areas of Forsyth County.
| Approximately 0.9 mile upstream of the Davidson/Forsyth County boundary | None | +847
Terry Road Branch | Approximately 75 feet downstream of Terry Road | None | +883 | City of Winston-Salem.
| Approximately 300 feet upstream of Salem Gardens Drive | None | +917
Tomahawk Branch | Approximately 300 feet upstream of Twin Meadows Drive | +785 | +784 | Unincorporated Areas of Forsyth County, Town of Lewisville.
| Approximately 300 feet downstream of Robinhood Road | +789 | +794
Yadkin River | At the Forsyth/Davidson County boundary | None | +691 | Unincorporated Areas of Forsyth County, Town of Lewisville, Village of Clemmons.
| Approximately 700 feet upstream of the Forsyth/Surry County boundary | None | +758
Tributary 4 | At the confluence with Yadkin River | None | +702 | Unincorporated Areas of Forsyth County, Village of Clemmons.
| Approximately 0.9 mile upstream of the confluence with Yadkin River | None | +718
Tributary 5 | At the confluence with Yadkin River | None | +713 | Unincorporated Areas of Forsyth County.
| Approximately 740 feet upstream of Williams Road (State Road 1173) | None | +732
Tributary 6 | At the confluence with Yadkin River | None | +723 | Unincorporated Areas of Forsyth County.
| Approximately 0.7 mile upstream of the confluence with Yadkin River | None | +727
Tributary 7 | At the confluence with Yadkin River | None | +724 | Unincorporated Areas of Forsyth County.
| Approximately 0.6 mile upstream of the confluence with Yadkin River | None | +734
Tributary 8 | At the confluence with Yadkin River | None | +727 | Unincorporated Areas of Forsyth County.
| Approximately 1.0 mile upstream of the confluence with Yadkin River | None | +731
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Winston-Salem
Maps are available for inspection at City of Winston-Salem Inspections Department, 100 East First Street, Suite 328, Winston-Salem, NC.
Town of Bethania
Maps are available for inspection at Bethania Town Hall, 5490 Bethania Road, Bethania, NC.
Town of Kernersville
Maps are available for inspection at Kernersville Town Hall, Planning Department, 134 East Mountain Street, Kernersville, NC.
Town of Lewisville
Maps are available for inspection at Lewisville Town Hall, 6550 Shallowford Road, Lewisville, NC.
Town of Rural Hall
Maps are available for inspection at Rural Hall Town Hall, 423 Bethania-Rural Hall Road, Rural Hall, NC.
Town of Walkertown
Maps are available for inspection at Walkertown Town Hall, 5177 Main Street, Walkertown, NC.
Unincorporated Areas of Forsyth County
Maps are available for inspection at Forsyth City/County Planning Board Office, 100 East First Street, Winston-Salem, NC.
Village of Clemmons
Maps are available for inspection at Clemmons Village Hall, 3715 Clemmons Road, Clemmons, NC.
Village of Tobaccoville
Maps are available for inspection at Tobaccoville Village Hall, 6936 Doral Drive, Tobaccoville, NC.
Washington County, Oregon, and Incorporated Areas
Beal Creek | Approximately 750 feet upstream from Highway 47 | None | *166 | City of Forest Grove, Unincorporated Areas of Washington County.
| Approximately 765 feet upstream from Main St | None | *169
Beaverton Creek | Approximately 20 feet upstream of SW 197th Ave | *155 | *157 | City of Beaverton, City of Hillsboro, Unincorporated Areas of Washington County.
| Approximately 870 feet upstream from SW Laurelwood Ave | None | *263
Bethany Creek | Approximately 0.21 miles downstream from NW 185th Ave | *169 | *170 | Unincorporated Areas of Washington County.
| Approximately 0.58 miles downstream from NW West Union Rd | None | *184
Bronson Creek | Approximately 65 feet downstream of NW Anzalone Dr | *152 | *155 | City of Beaverton, City of Hillsboro, Unincorporated Areas of Washington County.
| Approximately 1.0 miles upstream from NW West Union Rd | *232 | *234
Butternut Creek | Approximately 940 feet downstream of SW 209th Ave | *160 | *161 | Unincorporated Areas of Washington County.
| Approximately 125 feet downstream of SW Farmington Rd | *195 | *196
Cedar Creek | Approximately 0.5 miles downstream of SW Edy Rd | *140 | *141 | Town of Sherwood, Unincorporated Areas of Washington County.
| Approximately 610 feet upstream of SW Sunset Blvd | None | *172
Cedar Mill Creek | Approximately 0.6 miles downstream of P&W Railroad Bridge | *168 | *167 | City of Beaverton, Unincorporated Areas of Washington County.
| Approximately 90 feet upstream of NW 113th Ave | None | *297
North Overflow | Approximately 640 feet downstream of SW Rita Dr | None | *203 | City of Beaverton, Unincorporated Areas of Washington County.
| Approximately 250 feet upstream of SW 131st Ave | None | *209
South Overflow | Approximately 160 feet downstream of SW Butner Rd | None | *193 | City of Beaverton, Unincorporated Areas of Washington County.
| Approximately 40 feet upstream of SW Evergreen St | None | *202
Upper North Overflow | Approximately 120 feet downstream of confluence with Cedar Mill Creek | None | *209 | City of Beaverton, Unincorporated Areas of Washington County.
| Approximately 70 feet downstream of confluence with Cedar Mill Creek | None | *210
Celebrity Creek | Approximately 160 feet downstream of SW 198th Ave | None | *172 | Unincorporated Areas of Washington County.
| Approximately 115 feet downstream of SW Farmington Rd | None | *208
Chicken Creek | Approximately 0.8 miles downstream of SW Roy Rogers Rd | None | *131 | Town of Sherwood, Unincorporated Areas of Washington County.
| Approximately 35 feet upstream of SW Edy Rd | None | *154
West Tributary | Approximately 425 feet upstream of SW Elwert Rd | None | *149 | Unincorporated Areas of Washington County.
| Approximately 0.3 miles upstream of SW Elwert Rd | None | *153
Council Creek | Approximately 0.25 miles downstream of NW Hobbs Rd | *151 | *153 | Unincorporated Areas of Washington County.
| Approximately .39 miles downstream of Beal Rd | *163 | *162
Dairy Creek | Approximately 85 feet downstream of P&W Railroad | *147 | *149 | City of Hillsboro, Unincorporated Areas of Washington County.
| Approximately 580 feet upstream of confluence with Council Creek | *151 | *153
Dawson Creek | Approximately 317 feet upstream NW Brookwood Ave | *147 | *148 | City of Hillsboro, Unincorporated Areas of Washington County.
| Approximately 0.3 miles upstream of NW Shute Rd | None | *180
Deer Creek | Approximately 475 feet downstream of NW Kahneeta Dr | None | *172 | Unincorporated Areas of Washington County.
| Approximately 90 feet upstream of NW 174th Ave | None | *199
Erickson Creek | Approximately 211 feet upstream of SW 144th Ave | *170 | *171 | City of Beaverton.
| Approximately 322 feet upstream of SW 10th Street Bridge | *198 | *199
Glencoe Swale | Approximately 980 feet upstream from confluence with McKay Creek | *151 | *153 | City of Hillsboro, Unincorporated Areas of Washington County.
| Approximately 0.5 miles upstream of NW Sewell Rd | None | *197
Golf Creek | Approximately 390 feet upstream from confluence with Hall Creek | None | *195 | City of Beaverton, Unincorporated Areas of Washington County.
| Approximately 0.5 miles upstream of NW Sewell Rd | None | *219
Gordon Creek | Approximately 275 feet upstream of SW River Rd | None | *143 | City of Hillsboro, Unincorporated Areas of Washington County.
| Approximately 0.25 miles upstream of SW 229th Ave | None | *193
Hall Center Creek | Approximately 0.1 miles downstream of SW Center St | *176 | *178 | City of Beaverton, Unincorporated Areas of Washington County.
| Approximately 0.4 miles upstream of SW Center St | *177 | *179
Hall Creek | Approximately 175 feet downstream from confluence with Hall Center Creek | *176 | *178 | City of Beaverton, Unincorporated Areas of Washington County.
| Approximately 45 feet downstream of SW 87th Ave | None | *252
106th Trib | Approximately 235 feet downstream of SW 110th Ave | None | *188 | City of Beaverton, Unincorporated Areas of Washington County.
| Approximately 600 feet downstream of SW 106th Ave | None | *242
South Fork | Approximately 500 feet downstream of SW 96th Ave | None | *209 | City of Beaverton, Unincorporated Areas of Washington County.
| Approximately 500 feet upstream of SW 86th Ave | None | *257
Hedges Creek | Approximately 0.7 miles upstream of SW Teton Ave | None | *125 | City of Tualatin, Unincorporated Areas of Washington County.
| Approximately 200 feet upstream of SW Tualatin Rd | None | *138
Holcomb Creek | Approximately 500 feet upstream from confluence with Rock Creek North | None | *175 | Unincorporated Areas of Washington County.
| Approximately 0.15 miles upstream of NW Plastics Dr | None | *208
McKay Creek | Approximately 0.15 miles upstream from confluence with Dairy Creek | *151 | *153 | City of Hillsboro, Unincorporated Areas of Washington County.
| Approximately 370 feet downstream of NW West Union Rd | *171 | *170
North Johnson Creek | Approximately 200 feet downstream of SW Far Vista St | *185 | *184 | City of Beaverton, Unincorporated Areas of Washington County.
| Approximately 0.15 miles upstream from confluence with North Johnson Creek—East Tributary | None | *303
East Tributary | Approximately 335 feet downstream of SW Taylor St | None | *246 | Unincorporated Areas of Washington County.
| Approximately 0.3 miles upstream of SW Taylor St | None | *323
North Tributary | Approximately 550 feet upstream from confluence with North Johnson Creek | None | *218 | City of Beaverton, Unincorporated Areas of Washington County.
| Approximately 0.2 miles upstream of NW 112th St | None | *340
Rock Creek North | Approximately 0.45 miles downstream of SE River Rd | *147 | *144 | City of Hillsboro, Unincorporated Areas of Washington County.
| Approximately 0.75 miles upstream of Old Cornelius Pass Rd | None | *244
Rock Creek South | Approximately 750 feet downstream of SW Pacific Highway | *130 | *131 | Town of Sherwood, Unincorporated Areas of Washington County.
| Approximately .32 miles upstream of P&W Railroad | *136 | *135
South Johnson Creek | Approximately 800 feet downstream of SW Hart Rd | *195 | *201 | City of Beaverton, Unincorporated Areas of Washington County.
| Approximately 160 feet upstream of SW Hart Rd | None | *215
Storey Creek | Approximately 200 feet upstream from confluence with Waible Gulch | None | *160 | Unincorporated Areas of Washington County.
| Approximately 0.80 miles upstream from confluence with Storey Creek—Middle Tributary | None | *193
East Tributary | Approximately 0.40 miles downstream of NW Sunset Highway | None | *169 | Unincorporated Areas of Washington County.
| Approximately 0.35 miles upstream of NW Sunset Highway | None | *184
Middle Tributary | Approximately 870 feet upstream from confluence with Storey Creek | None | *177 | Unincorporated Areas of Washington County.
| Approximately 70 feet upstream of NW West Union Rd | None | *193
Tualatin River | Approximately 1.6 miles downstream from SW Golf Course Rd | *150 | *149 | City of Cornelius, City of Hillsboro, Unincorporated Areas of Washington County.
| Approximately 0.3 miles downstream from confluence with Gales Creek | *163 | *164
| Approximately 490 feet downstream of confluence with Tualatin River-Nyberg Slough Overflow | *121 | *122 | City of Durham, City of King City, City of Tigard, City of Tualatin, Unincorporated Areas of Washington County.
| Approximately 0.3 miles upstream of SW Roy Rogers Rd | *130 | *132
Overflow to Nyberg Slough | Approximately 150 feet upstream of SW 65th Ave | *122 | *123 | City of Tualatin.
| Approximately 300 feet downstream from confluence with Tualatin River | *124 | *126
Turner Creek | Approximately 450 feet downstream of SW 32nd Ave | None | *144 | City of Hillsboro.
| Approximately 0.45 miles upstream of E Main St | None | *164
Waible Gulch | Approximately 0.25 miles upstream from confluence with McKay Creek | None | *157 | Unincorporated Areas of Washington County.
| Approximately 0.25 miles upstream from confluence with Waible Gulch—North Tributary | None | *193
North Tributary | Approximately 245 feet upstream from confluence with Waible Gulch | None | *189 | City of Hillsboro, Unincorporated Areas of Washington County.
| Approximately 40 feet upstream of NW West Union Rd | None | *204
South Tributary | Approximately 270 feet upstream from confluence with Waible Gulch | None | *176 | City of Hillsboro, Unincorporated Areas of Washington County.
| Approximately 90 feet upstream of NW Jacobson Rd | None | *208
Willow Creek | Approximately 440 feet upstream from confluence with Beaverton Creek | *157 | *158 | City of Beaverton, City of Hillsboro, Unincorporated Areas of Washington County.
| Approximately 90 feet upstream of NW 141st Pl | None | *235
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Beaverton
Maps are available for inspection at 4755 SW Griffith Dr., Beaverton, OR 97076.
City of Cornelius
Maps are available for inspection at 1355 N. Barlow Street, Cornelius, OR 97113.
City of Durham
Maps are available for inspection at 17160 SW Upper Boones Ferry Rd., Durham, OR 97224.
City of Forest Grove
Maps are available for inspection at 1924 Council Street, Forest Grove, OR 97116.
City of Hillsboro
Maps are available for inspection at 155 N. First Ave, Ste. 300, Hillsboro, OR 97124.
City of King City
Maps are available for inspection at 15300 SW 116th Ave., King City, OR 97224.
City of Tigard
Maps are available for inspection at 13125 SW Hall Blvd., Tigard, OR 97223.
City of Tualatin
Maps are available for inspection at 18880 SW Martinazzi Ave., Tualatin, OR 97062.
Town of Sherwood
Maps are available for inspection at 22560 SW Pine St., Sherwood, OR 97140.
Unincorporated Areas of Washington County
Maps are available for inspection at 155 North First Ave., Ste. 350, Hillsboro, OR 97124.
Grainger County, Tennessee, and Incorporated Areas
Lea Creek | Approximately 2,800 feet upstream U.S. Highway 11 | None | +913 | Unincorporated Areas of Grainger County.
| Approximately 4,200 feet upstream U.S. Highway 11 | None | +913
Norris Lake | Approximately 5,200 feet downstream of the confluence of Black Fox Creek | None | +1032 | Unincorporated Areas of Grainger County.
| Approximately 2,500 feet downstream of U.S. Highway 25 | None | +1032
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Grainger County
Maps are available for inspection at Grainger County Courthouse, P.O. Box 126, Rutledge, TN 37861.
McNairy County, Tennessee, and Incorporated Areas
Bank Creek | Approximately 2,870 feet downstream of Old Stage Road | +411 | +413 | Unincorporated Areas of McNairy County.
| Approximately 350 feet upstream of Stafford Bottoms Road | None | +416
Clarey Branch | Just upstream of U.S. Highway 64 | +401 | +404 | Town of Adamsville, Unincorporated Areas of McNairy County.
| Approximately 750 feet upstream of State Highway 224 | None | +405
Lick Creek | Approximately 3,700 feet downstream of Old Stage Road | +409 | +411 | Unincorporated Areas of McNairy County.
| Approximately 4,840 feet upstream of State Highway 224 | None | +415
Snake Creek | Approximately 105 feet downstream of U.S. Highway 64 | +402 | +403 | Town of Adamsville, Unincorporated Areas of McNairy County.
| Approximately 600 feet downstream Old Stage Road | +414 | +415
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Adamsville
Maps are available for inspection at 231 East Main Street, Adamsville, TN 38310.
Unincorporated Areas of McNairy County
Maps are available for inspection at 170 West Court, Selmer, TN 38375.

(Catalog of Federal Domestic Assistance No. 97.022, “Flood Insurance.”)

Dated: November 26, 2007.
David I. Maurstad,
Federal Insurance Administrator of the National Flood Insurance Program, Department of Homeland Security, Federal Emergency Management Agency.

[FR Doc. E7-23696 Filed 12-5-07; 8:45 am]

BILLING CODE 9110-12-P